DEPARTMENT OF TRANSPORTATION

Federal Aviation Administration

14 CFR Part 39

[Docket No. FAA-2007-28349; Directorate Identifier 2007-NM-025-AD; Amendment 39-15211; AD 2007-20-01]

RIN 2120-AA64

Airworthiness Directives; Boeing Model 747-100B SUD, 747-200B, 747-200C, 747-200F, 747-300, 747-400, 747-400D, 747-400F, and 747SP Series Airplanes

AGENCY: Federal Aviation Administration (FAA), Department of Transportation (DOT).

ACTION: Final rule.

SUMMARY: The FAA is adopting a new airworthiness directive (AD) for certain Boeing Model 747-100B SUD, 747-200B, 747-200C, 747-200F, 747-300, 747-400, 747-400D, 747-400F, and 747SP series airplanes. This AD requires reconfiguring the clamps of certain wire bundles and applying insulating sealant to certain fasteners inside the fuel tanks. This AD results from fuel system reviews conducted by the manufacturer. We are issuing this AD to prevent arcing inside the fuel tanks in the event of a lightning strike or high-powered short circuit, which could result in a fuel tank explosion or fire.

DATES: This AD becomes effective October 31, 2007.

The Director of the Federal Register approved the incorporation by reference of certain publications listed in the AD as of October 31, 2007.

ADDRESSES: You may examine the AD docket on the Internet at http://dms.dot.gov or in person at the U.S. Department of Transportation, Docket Operations, M-30, West Building Ground Floor, Room W12-140, 1200 New Jersey Avenue, SE., Washington, DC.

Contact Boeing Commercial Airplanes, P.O. Box 3707, Seattle, Washington 98124-2207, for service information identified in this AD.

FOR FURTHER INFORMATION CONTACT: Sulmo Mariano, Aerospace Engineer, Propulsion Branch, ANM-140S, FAA, Seattle Aircraft Certification Office, 1601 Lind Avenue, SW., Renton, Washington 98057-3356; telephone (425) 917-6501; fax (425) 917-6590.

SUPPLEMENTARY INFORMATION:

Examining the Docket

You may examine the AD docket on the Internet at http://dms.dot.gov or in person at the Docket Operations office between 9 a.m. and 5 p.m., Monday through Friday, except Federal holidays. The Docket Operations office (telephone (800) 647-5527) is located on the ground floor of the West Building at the DOT street address stated in the ADDRESSES section.

Discussion

The FAA issued a notice of proposed rulemaking (NPRM) to amend 14 CFR part 39 to include an AD that would apply to certain Boeing Model 747-100B SUD, 747-200B, 747-200C, 747-200F, 747-300, 747-400, 747-400D, 747-400F, and 747SP series airplanes. That NPRM was published in the Federal Register on June 5, 2007 (72 FR 30999). That NPRM proposed to require reconfiguring the clamps of certain wire bundles and applying insulating sealant to certain fasteners inside the fuel tanks.

Comments

We provided the public the opportunity to participate in the development of this AD. We have considered the single comment received.

Request To Add Information About New Clamp Design

Boeing requests that we add information about the design of the replacement clamps. Boeing asserts that the second paragraph of the Relevant Service Information section of the NPRM does not describe how the new clamps protect the wire bundle. Boeing explains that the new clamps are of a different design and have additional protection on their edges. Boeing therefore requests that we revise the described paragraph to read “* * * installing new, larger clamps, which contain additional protection against metal to bundle contact, * * *.”

We partially agree with this request. We agree that this information clarifies the nature of the modification developed to address the unsafe condition; however, the Relevant Service Information section of the NPRM is not retained in the final rule. Therefore, we find that no change to the AD is necessary in this regard.

Conclusion

We have carefully reviewed the available data, including the comment received, and determined that air safety and the public interest require adopting the AD as proposed.

Costs of Compliance

There are about 707 airplanes of the affected design in the worldwide fleet. This AD affects about 107 airplanes of U.S. registry. Depending on airplane configuration, the required actions take between 106 and 448 work hours per airplane, at an average labor rate of $80 per work hour. Required parts cost between $430 and $2,074 per airplane. Based on these figures, the estimated cost of the AD for U.S. operators is between $8,910 and $37,914 per airplane, or up to $4,056,798 for all airplanes.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-20-01 Boeing: Amendment 39-15211. Docket No. FAA-2007-28349; Directorate Identifier 2007-NM-025-AD.

Effective Date

(a) This AD becomes effective October 31, 2007.

Affected ADs

(b) None.

Applicability

(c) This AD applies to Boeing Model 747-100B SUD, 747-200B, 747-200C, 747-200F, 747-300, 747-400, 747-400D, 747-400F, and 747SP series airplanes, certificated in any category; as identified in Boeing Special Attention Service Bulletin 747-57-2327, Revision 1, dated July 10, 2006; and Boeing Special Attention Service Bulletin 747-57-2326, dated January 4, 2007.

Unsafe Condition

(d) This AD results from fuel system reviews conducted by the manufacturer. We are issuing this AD to prevent arcing inside the fuel tanks in the event of a lightning strike or high-powered short circuit, which could result in a fuel tank explosion or fire.

Compliance

(e) You are responsible for having the actions required by this AD performed within the compliance times specified, unless the actions have already been done.

Change and Seal

(f) Within 60 months after the effective date of this AD, do the actions required by paragraphs (f)(1) and (f)(2) of this AD.

(1) Reconfigure the wire bundle clamps and seal the ends of certain fasteners inside the auxiliary fuel tank, main fuel tanks, and surge fuel tanks, in accordance with the Accomplishment Instructions of Boeing Special Attention Service Bulletin 747-57-2327, Revision 1, dated July 10, 2006.

(2) Seal the ends of certain fasteners inside the main fuel tanks, in accordance with the Accomplishment Instructions of Boeing Special Attention Service Bulletin 747-57-2326, dated January 4, 2007.

Alternative Methods of Compliance (AMOCs)

(g)(1) The Manager, Seattle Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(h) You must use Boeing Special Attention Service Bulletin 747-57-2327, Revision 1, dated July 10, 2006; and Boeing Special Attention Service Bulletin 747-57-2326, dated January 4, 2007; as applicable, to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the FAA, Transport Airplane Directorate, 1601 Lind Avenue SW., Renton, Washington; or at the National Archives and Records Administration (NARA). For information on the availability of this material at NARA, call 202-741-6030, or go to: http://www.archives.gov/federal-register/cfr/ibr-locations.html.

Issued in Renton, Washington, on September 17, 2007.
John Piccola,
Acting Manager, Transport Airplane Directorate, Aircraft Certification Service.

7

[FR Doc. E7-18747 Filed 9-25-07; 8:45 am]

BILLING CODE 4910-13-P